DEPARTMENT OF COMMERCE

International Trade Administration

[C-570-955]

Certain Magnesia Carbon Bricks From the People's Republic of China: Final Results of and Final Partial Rescission of Countervailing Duty Administrative Review; 2010

AGENCY: Import Administration, International Trade Administration, Department of Commerce.

SUMMARY: On October 9, 2012, the Department of Commerce (the Department) published the preliminary results of the 2010 administrative review of the countervailing duty (CVD) order on certain magnesia carbon bricks from the People's Republic of China (PRC) covering the two mandatory respondents for the period of review (POR) of August 2, 2010, through December 31, 2010.¹ We invited parties to comment on the Preliminary Results.² Based on the analysis of the comments received, the Department has not made any changes to the subsidy rates determined for the two mandatory respondents. The final subsidy rates are listed in the “Final Results of Review” section below.

¹ See Certain Magnesia Carbon Bricks From the People's Republic of China: 2010 Countervailing Duty Administrative Review, 77 FR 61397 (October 9, 2012) (Preliminary Results).

² See Preliminary Results, 77 FR 61399.

DATES: Effective Date: April 15, 2013.

FOR FURTHER INFORMATION CONTACT: Toni Page or Elfi Blum, AD/CVD Operations, Office 6, Import Administration, International Trade Administration, U.S. Department of Commerce, 14th Street and Constitution Avenue NW., Washington, DC 20230; telephone: (202) 482-1398 or (202) 482-0197, respectively.

SUPPLEMENTARY INFORMATION:

Background

On October 9, 2012, the Department published the Preliminary Results, which covered the two mandatory respondents—Fengchi Imp. and Exp. Co., Ltd. of Haicheng City and Fengchi Refractories Co., of Haicheng City (collectively, Fengchi) and Yingkou Bayuquan Refractories Co., Ltd. (BRC)—as well as the remaining producers/exporters for whom we initiated reviews.

On November 13, 2012, the Department received case briefs from Resco Products, Inc. (the petitioner in the original investigation) (Petitioner), the Government of the People's Republic of China (the GOC), and Fengchi. The Department received rebuttal briefs on November 19, 2012, from Petitioner, Fengchi, and ANH Refractories Company (ANH), a domestic producer of subject merchandise.

Analysis of Comments Received

All issues raised by parties in their case briefs are addressed in the Final Decision Memorandum.³ A list of these issues is attached to this notice in Appendix I. The Final Decision Memorandum is a public document and is on file electronically via Import Administration's Antidumping and Countervailing Duty Centralized Electronic Service System (IA ACCESS). Access to IA ACCESS is available to registered users at http://iaaccess.trade.gov and in the Central Records Unit, room 7046 of the main Department of Commerce building. In addition, a complete version of the Final Decision Memorandum can be accessed directly on the Internet at http://www.trade.gov/ia/. The signed Final Decision Memorandum and electronic versions of the Final Decision Memorandum are identical in content.

³ See Memorandum from Christian Marsh, Deputy Assistant Secretary for Antidumping and Countervailing Duty Operations, to Paul Piquado, Assistant Secretary for Import Administration, “Issues and Decision Memorandum for Certain Magnesia Carbon Bricks from the People's Republic of China: Final Results of the 2010 Administrative Review,” dated concurrently with this notice and herein incorporated by reference (Final Decision Memorandum).

Scope of the Order

The scope of the order includes certain magnesia carbon bricks.⁴ Certain magnesia carbon bricks that are the subject of the order are currently classifiable under subheadings 6810.11.0000, 6810.91.0000, 6810.99.0080, 6902.10.1000, 6902.10.5000, 6815.91.0000, 6815.99.2000 and 6815.99.4000 of the Harmonized Tariff Schedule of the United States (HTSUS). While HTSUS subheadings are provided for convenience and customs purposes, the written description is dispositive.

⁴ See Final Decision Memorandum for a complete description of the scope of the order.

Changes Since the Preliminary Results

Based on the comments received from the interested parties, we have made no change to the Preliminary Results. For a discussion of the issues, see the Final Decision Memorandum.

Final Rescission, in Part, of the Administrative Review

In the Preliminary Results, we stated that a final decision regarding whether to rescind the review with respect to certain companies would be made in the final results of this review.⁵ We continue to find no evidence on the record to indicate that these companies exported subject merchandise during the POR. Accordingly, pursuant to 19 CFR 351.213(d)(3), the Department is rescinding the review with respect to ANH Xinyi, the RHI companies, and NCR for these final results.

⁵ See Preliminary Results, 77 FR 61398. The companies are: ANH (Xinyi) Refractories (ANH Xinyi); RHI-Refractories Asia Pacific Pte. Ltd., RHI Refractories (Dalian) Co. Ltd., RHI Refractories Liaoning Co., Ltd., RHI Trading Shanghai Branch, and RHI Trading (Dalian) Co., Ltd. (collectively, the RHI companies); and Yingkou New Century Refractories Ltd. (NCR).

Rate for Non-Selected Companies Under Review

With respect to the companies for which we initiated reviews and for which the review has not been rescinded,⁶ we are assigning these companies the all others rate from the investigation because the rates determined for the mandatory respondents in this review are based entirely upon AFA. We consider the use of the all-others rate from the investigation, which was based upon a calculated rate for one of the mandatory respondents in the investigation, to be a reasonable method for calculating the rate applicable to the remaining companies under review because it represents the only rate in the history of the CVD order on magnesia carbon bricks from the PRC that is not zero, de minimis, or based entirely upon facts available.

⁶ A complete list of the remaining companies on which we initiated a review and for which the review was not rescinded is provided in Appendix II to this notice.

Final Results of Review

The subsidy rates for the POR are as follows:

Company | Subsidy rate (percent)
Fengchi Imp. and Exp. Co., Ltd. of Haicheng City and Fengchi Refractories Co., of Haicheng City | 262.80
Yingkou Bayuquan Refractories Co. Ltd. | 262.80
Rate Applicable to the Remaining Companies Under Review ⁷ | 24.24
⁷ See Appendix II.

Assessment Rates

The Department intends to issue appropriate assessment instructions directly to U.S. Customs and Border Protection (CBP) 15 days after publication of these final results of review.

Cash Deposit Instructions

The Department also intends to instruct CBP to collect cash deposits of estimated CVDs in the amounts shown above. For all non-reviewed firms, we will instruct CBP to continue to collect cash deposits of estimated CVDs at the all others rate established in the investigation. Accordingly, the cash deposit rates that will be applied to companies covered by the order, but not examined in this review, are those established in the most recently completed segment of the proceeding for each company. These cash deposit rates shall apply to all non-reviewed companies until a review of a company assigned these rates is requested and completed. These cash deposit requirements, when imposed, shall remain in effect until further notice.

Administrative Protective Order

This notice also serves as a reminder to parties subject to an administrative protective order (APO) of their responsibility concerning the return or destruction of proprietary information disclosed under APO in accordance with 19 CFR 351.305(a)(3), which continues to govern business proprietary information in this segment of proceeding. Timely written notification of the return/destruction of APO materials or conversion to judicial protective order is hereby requested. Failure to comply with the regulations and terms of an APO is a violation which is subject to sanction. These final results are issued and published in accordance with sections 751(a)(1) and 777(i)(1) of the Act.

Dated: April 9, 2013.
Paul Piquado,
Assistant Secretary for Import Administration.

Appendix I

Comment 1: Application of Adverse Facts Available (AFA) to Fengchi for its Failure to Report Period of Review (POR) Information for Magnesia Alumina Carbon Bricks (MACBs)

Comment 2: Selection of the Appropriate AFA Rate to Assign to Fengchi and Corroboration of That Rate

Comment 3: Corrections to the Department's Draft Customs Instructions

Comment 4: Petitioner's Untimely Withdrawal Request

Appendix II

List of Remaining Companies Under Review

Anyang Rongzhu Silicon Industry Co., Ltd.

Bayuquan Refractories Co., Ltd.

Beijing Tianxing Ceramic Fiber Composite Materials Corp.

Changxing Magnesium Furnace Charge Co., Ltd.

Changxing Wangfa Architectural & Metallurgical Materials Co., Ltd.

Changzing Zhicheng Refractory Material Factory

China Metallurgical Raw Material Beijing Company

China Quantai Metallurgical (Beijing) Engineering & Science Co., Ltd.

Chosun Refractories

Cimm Group of China

CNBM International Corporation

Dalian Dalmond Trading Co., Ltd.

Dalian F.T.Z. Maylong Resources Co., Ltd.

Dalian Huayu Refractories International Co., Ltd.

Dalian LST Metallurgy Co., Ltd.

Dalian Mayerton Refractories Co. Ltd.

Dalian Morgan Refractories Ltd.

Dashiqiao Bozhong Mineral Products Co., Ltd.

Dashiqiao City Guangcheng Refractory Co., Ltd.

Dashiqiao Jia Sheng Mining Co., Ltd.

Dashiqiao Jinlong Refractories Co., Ltd.

Dashiqiao RongXing Refractory Material Co., Ltd.

Dashiqiao Sanqiang Refractory Material Co., Ltd.

Dashiqiao Yutong Packing Factory

Dengfeng Desheng Refractory Co., Ltd.

DFL Minmet Refractories Corp.

Duferco BarInvest SA Beijing Office

Duferco Ironet Shanghai Representative Office

Duferco SA

Eastern Industries & Trading Co., Ltd.

Fengchi Mining Co., Ltd of Haicheng City

Fengchi Refractories Co., of Haicheng City

Fengchi Refractories Corp.

Haicheng City Qunli Mining Co., Ltd.

Haicheng City Xiyang Import & Export Corporation

Haicheng Donghe Taidi Refractory Co., Ltd.

Haicheng Ruitong Mining Co., Ltd.

Haiyuan Talc Powder Manufacture Factory

Henan Boma Co. Ltd.

Henan Kingway Chemicals Co., Ltd.

Henan Tagore Refractories Co., Ltd.

Henan Xinmi Changzxing Refractories, Co., Ltd.

Hebei Qinghe Refractory Group Co. Ltd

Huailin Refractories (Dashiqiao) Pte. Ltd.

Jiangsu Sujia Group New Materials Co., Ltd

Jiangsu Sujia Joint-Stock Co., Ltd.

Jinan Forever Imp. & Emp. Trading Co., Ltd.

Jinan Linquan Imp. & Emp. Co. Ltd.

Jinan Ludong Refractory Co., Ltd.

Kosmokraft Refractory Limited

Kuehne & Nagel Ltd. Dalian Branch Office

Lechang City Guangdong Province SongXin Refractories Co., Ltd.

Liaoning Fucheng Refractories Group Co., Ltd.

Liaoning Fucheng Special Refractory Co., Ltd.

Liaoning Jiayi Metals & Minerals Ltd.

Liaoning Jinding Magnesite Group

Liaoning Mayerton Refractories Co., Ltd.

Liaoning Mineral & Metallurgy Group Co., Ltd.

Liaoning Qunyi Group Refractories Co., Ltd.

Liaoning Qunyi Trade Co., Ltd.

Liaoning RHI Jinding Magnesia Co., Ltd.

LiShuang Refractory Industrial Co., Ltd.

Lithomelt Co., Ltd.

Luheng Refractory Co., Ltd.

Luoyang Refractory Group Co., Ltd.

Mayerton Refractories

Minsource International Ltd.

Minteq International Inc.

National Minerals Co., Ltd.

North Refractories Co., Ltd.

Orestar Metals & Minerals Co., Ltd.

Oreworld Trade (Tangshan) Co., Ltd.

Puyang Refractories Co., Ltd.

Qingdao Almatis Co., Ltd. (HQ)

Qingdao Almatis Co., Ltd. (Manufacturing)

Qingdao Almatis Trading Co., Ltd. (Sales Office)

Qingdao Blueshell Import & Emport Corp.

Qingdao Fujing Group Co., Ltd.

Qingdao Huierde International Trade Co., Ltd.

Rongyuan Magnesite Co., Ltd. of Dashiqiao City

Shandong Cambridge International Trade Inc.

Shandong Lunai Kiln Refractories Co., Ltd.

Shandong Refractories Corp.

Shanxi Dajin International (Group) Co., Ltd.

Shanxi Xinrong International Trade Co. Ltd.

Shenyang Yi Xin Sheng Lai Refractory Materials Co., Ltd.

Shinagawa Rongyuan Refractories Co., Ltd.

Sinosteel Corporation

SMMC Group Co., Ltd.

Tangshan Success Import & Export Trading Co., Ltd.

Tianjin New Century Refractories, Ltd.

Tianjin New World Import & Export Trading Co., Ltd.

Tianjin Weiyuan Refractory Co., Ltd.

Vesuvius Advanced Ceramics (Suzhou) Co. Ltd.

Wonjin Refractories Co., Ltd.

Xiyuan Xingquan Forsterite Co., Ltd.

Yanshi City Guangming High-Tech Refractories Products Co., Ltd.

YHS Minerals Co., Ltd.

Yingkou Dalmond Refractories Co., Ltd.

Yingkou Guangyang Refractories Co., Ltd.

Yingkou Guangyang Refractories Co., Ltd. (YGR)

Yingkou Heping Samwha Minerals Co., Ltd.

Yingkou Jiahe Refractories Co., Ltd.

Yingkou Jinlong Refractories Group

Yingkou Kyushu Refractories Co., Ltd.

Yingkou Qinghua Group Imp. & Emp. Co., Ltd.

Yingkou Qinghua Refractories Co., Ltd.

Yingkou Sanhua Refractory Materials Co., Ltd.

Yingkou Tianrun Refractory Co.,Ltd.

Yingkou Wonjin Refractory Material Co., Ltd.

Yingkou Yongji Mag Refractory, Ltd.

Yixing Runlong Trade Co., Ltd.

Yixing Xinwei Leeshing Refractory Material Co., Ltd.

Yixing Zhenqiu Charging Ltd.

Zhejiang Changxing Guangming Special Refractory Material Foundry, Co., Ltd.

Zhejiang Deqing Jinlei Refractory Co., Ltd.

Zhejiang Huzhou Fuzilin Refractory Metals Group Co., Ltd.

Zhengzhou Annec Industrial Co., Ltd.

Zhengzhou Huachen Refractory Co., Ltd.

Zibo Lianzhu Refractory Materials Co., Ltd.

[FR Doc. 2013-08793 Filed 4-12-13; 8:45 am]

BILLING CODE 3510-DS-P